DEPARTMENT OF COMMERCE

National Oceanic and Atmospheric Administration

[RTID 0648-XA614]

Marine Mammals; File No. 24356

AGENCY: National Marine Fisheries Service (NMFS), National Oceanic and Atmospheric Administration (NOAA), Commerce.

ACTION: Notice; receipt of application.

SUMMARY: Notice is hereby given that Plimsoll Productions, Whiteladies House, 51-55 Whiteladies Road, Bristol BS8 2LY, United Kingdom (Responsible Party: James Manisty), has applied in due form for a permit to conduct commercial or educational photography on northern elephant seals (Mirounga angustirostris).

DATES: Written, telefaxed, or email comments must be received on or before December 4, 2020.

ADDRESSES: These documents are available upon written request via email to NMFS.Pr1Comments@noaa.gov.

Written comments on this application should be submitted via email to NMFS.Pr1Comments@noaa.gov. Please include File No. 24356 in the subject line of the email comment.

Those individuals requesting a public hearing should submit a written request via email to NMFS.Pr1Comments@noaa.gov. The request should set forth the specific reasons why a hearing on this application would be appropriate.

FOR FURTHER INFORMATION CONTACT: Sara Young or Shasta McClenahan, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant proposes to film northern elephant seals at Año Nuevo State Park in California. Footage would be used to create a documentary series for National Geographic that will be broadcast on multiple platforms in 2022. Up to 1,400 northern elephant seals would be filmed over the duration of the project from land or from unmanned aircraft systems. One hundred California sea lions (Zalophus californianus), 100 harbor seals (Phoca vitulina), and 100 Steller sea lions from the eastern distinct population segment (Eumetopias jubatus) may be opportunistically filmed or harassed if encountered over the duration of the project. Filming is expected to occur over 4 weeks between January 2021 and March 2022, concentrated in the months of January and February. The permit would expire on March 1, 2022.

In compliance with the National Environmental Policy Act of 1969 (42 U.S.C. 4321 et seq.), an initial determination has been made that the activity proposed is categorically excluded from the requirement to prepare an environmental assessment or environmental impact statement. Concurrent with the publication of this notice in the Federal Register, NMFS is forwarding copies of the application to the Marine Mammal Commission and its Committee of Scientific Advisors.

Dated: October 30, 2020.
Julia Marie Harrison,
Chief, Permits and Conservation Division, Office of Protected Resources, National Marine Fisheries Service.

[FR Doc. 2020-24432 Filed 11-3-20; 8:45 am]

BILLING CODE 3510-22-P